DEPARTMENT OF TRANSPORTATION

Federal Aviation Administration

Noise Exposure Map Acceptance

ACTION: Notice.

SUMMARY: The Federal Aviation Administration (FAA) announces its determination that the noise exposure maps submitted by the City of Philadelphia Division of Aviation for Philadelphia International Airport (PHL) under the provisions of 49 U.S.C. 47501 et seq. (Aviation Safety and Noise Abatement Act) and 14 CFR Part 150 are in compliance with applicable requirements.

DATES: Effective Date: The effective date of the FAA's determination on the noise exposure maps is June 1, 2010.

FOR FURTHER INFORMATION CONTACT: Edward S. Gabsewics, CEP, Environmental Protection Specialist, FAA Harrisburg Airports District Office, 3905 Hartzdale Avenue, Suite 508, Camp Hill, PA 17011, 717-730-2832.

SUPPLEMENTARY INFORMATION: This notice announces that the FAA finds that the noise Exposure maps submitted for Philadelphia International Airport (PHL) are in compliance with Applicable requirements of Part 150, effective June 1, 2010. Under 49 U.S.C. Section 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Federal Aviation Regulations (FAR) Part 150, promulgated pursuant to the Act, may submit a noise compatibility program for FAA approval which sets forth the measures the operator has taken or proposes to take to reduce existing non-compatible uses and prevent the introduction of additional non-compatible uses.

The FAA has completed its review of the noise exposure maps and accompanying documentation submitted by the City of Philadelphia Division of Aviation. The documentation that constitutes the “Noise Exposure Maps” as defined in Section 150.7 of Part 150 includes the following from the PHL FAR Part 150 Noise Exposure Map Update Report:

• Figure 1: 2008 Existing Baseline Noise Exposure Map.

• Figure 2: 2013 Future Baseline Noise Exposure Map.

• Section 1: Appendix C, D and E—Consultation requirements.

• Section 2: Land Use Analysis.

• Section 3: 2008 Existing Baseline Noise Exposure Map and data requirements.

• Table 3-1: 2008 Existing Baseline Annual Average Day Operations.

• Table 3-3: 2008 Existing Baseline Runway Utilization.

• Table 3-4: 2008 Flight Track Utilization.

• Section 4: 2013 Future Baseline Noise Exposure Map and data requirements.

• Table 4-1: 2013 Future Baseline Annual Average Day Operations.

• Table 4-2: 2013 Future Baseline Runway Utilization.

• Table 4-4: 2013 Flight Track Utilization.

The FAA has determined that these noise exposure maps and accompanying documentation are in compliance with applicable requirements. This determination is effective on June 1, 2010. FAA's determination on an airport operator's noise exposure maps is limited to a finding that the maps were developed in accordance with the procedures contained in Appendix A of FAR Part 150. Such determination does not constitute approval of the applicant's data, information or plans, or a commitment to approve a noise compatibility program or to fund the implementation of that program. If questions arise concerning the precise relationship of specific properties to noise exposure contours depicted on a noise exposure map submitted under Section 47503 of the Act, it should be noted that the FAA is not involved in any way in determining the relative locations of specific properties with regard to the depicted noise contours, or in interpreting the noise exposure maps to resolve questions concerning, for example, which properties should be covered by the provisions of Section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under Section 150.21 of FAR Part 150, that the statutorily required consultation has been accomplished.

Copies of the full noise exposure map documentation and of the FAA's evaluation of the maps are available for examination at the following locations:

Federal Aviation Administration's Harrisburg Airports District Office located at 3905 Hartzdale Drive, Suite 508, Camp Hill, PA 17011, Monday-Friday 8 a.m.-4:30 p.m.

Philadelphia International Airport's Office of the Noise Abatement Program Manager (Jonathan D. Collette) located at 2801 Island Avenue, Suite 13, Philadelphia, PA 19153, Monday-Friday 8 a.m.-4 p.m.

Questions may be directed to the individual named above under the heading FOR FURTHER INFORMATION CONTACT.

Issued in Camp Hill, Pennsylvania, June 1, 2010.
Lori K. Pagnanelli,
Manager, Harrisburg Airports District Office.

[FR Doc. 2010-17979 Filed 7-26-10; 8:45 am]

BILLING CODE 4910-13-M